DEPARTMENT OF COMMERCE

International Trade Administration

[A-570-932]

Certain Steel Threaded Rod From the People's Republic of China: Amended Final Results of Antidumping Duty Administrative Review; 2014-2015

AGENCY: Enforcement and Compliance, International Trade Administration, Department of Commerce.

SUMMARY: The Department of Commerce (the “Department”) published the Final Results of the sixth administrative review of the antidumping duty order on certain steel threaded rod from the People's Republic of China (“PRC”) on November 22, 2016. The period of review (“POR”) is April 1, 2014, through March 31, 2015. This review covers two PRC exporters of subject merchandise, RMB Fasteners Ltd., IFI & Morgan Ltd., and Jiaxing Brother Standard Part Co., Ltd. (collectively “the RMB/IFI Group”), and Zhejiang New Oriental Fastener Co., Ltd. (“New Oriental”). The amended final dumping margins are listed below in the “Final Results of Administrative Review” section of this notice.

DATES: Effective January 6, 2017.

FOR FURTHER INFORMATION CONTACT: Paul Walker, AD/CVD Operations, Office V, Enforcement and Compliance, International Trade Administration, U.S. Department of Commerce, 14th Street and Constitution Avenue NW., Washington DC 20230; telephone: (202) 482-0413.

SUPPLEMENTARY INFORMATION:

Background

The Department published in the Federal Register the Final Results of this administrative review on November 22, 2016.¹ On December 2, 2016, New Oriental filed a timely allegation that the Department made two ministerial errors in the Final Results and requested, pursuant to 19 CFR 351.224, that the Department correct the alleged ministerial errors. No other party submitted ministerial error allegations or rebuttal comments.

¹ See Certain Steel Threaded Rod from the People's Republic of China: Final Results of Antidumping Duty Administrative Review; 2014-2015, 81 FR 8300 (November 22, 2016) (“Final Results”), and accompanying Issues and Decision Memorandum (“IDM”).

Scope of the Order

The merchandise covered by the order is steel threaded rod.² Steel threaded rod is certain threaded rod, bar, or studs, of carbon quality steel, having a solid, circular cross section, of any diameter, in any straight length, that have been forged, turned, cold-drawn, cold-rolled, machine straightened, or otherwise cold-finished, and into which threaded grooves have been applied. Certain steel threaded rod subject to the order is currently classifiable in the Harmonized Tariff Schedule of the United States (“HTSUS”) at subheadings 7318.15.5051, 7318.15.5056, 7318.15.5090, and 7318.15.2095. Although the HTSUS subheading is provided for convenience and customs purposes, the written description of the merchandise is dispositive.³

² See Certain Steel Threaded Rod from the People's Republic of China: Notice of Antidumping Duty Order, 74 FR 17154 (April 14, 2009).

³ See Memorandum to Paul Piquado, from Christian Marsh, regarding “Sixth Antidumping Administrative Review of Certain Steel Threaded Rod from the People's Republic of China: Ministerial Error Memorandum,” dated concurrently with this notice (“Ministerial Errors Memo”).

Amended Final Results

Section 751(h) of the Tariff Act of 1930, as amended (“the Act”), defines “ministerial error” as including “errors in addition, subtraction, or other arithmetic function, clerical errors resulting from inaccurate copying, duplication, or the like, and any other type of unintentional error which the administering authority considers ministerial.” After analyzing New Oriental's comments, we have determined, in accordance with section 751(h) of the Act and 19 CFR 351.224(e), that we made certain ministerial errors in the final results with respect to our calculation of surrogate financial ratios.⁴

⁴ See Ministerial Errors Memo.

For a detailed discussion of these ministerial errors, as well as the Department's analysis of these errors, see Ministerial Errors Memo. In accordance with section 751(h) of the Act and 19 CFR 351.224(e), we are amending the Final Results of this administrative review of certain steel threaded rod from the PRC. The dumping margins for the period of review for these amended final results are as follows:

Exporter | Weighted- average margin (percent)
RMB Fasteners Ltd., and IFI & Morgan Ltd. (“RMB/IFI Group”) | 0.00
Zhejiang New Oriental Fasteners Co., Ltd. (“New Oriental”) | 5.40

These amended final results and notice are issued and published in accordance with sections 751(h), and 777(i)(1) of the Act, and 19 CFR 351.224(e).

Dated: December 23, 2016.
Paul Piquado,
Assistant Secretary for Enforcement and Compliance.

[FR Doc. 2017-00026 Filed 1-5-17; 8:45 am]

BILLING CODE 3510-DS-P